DEPARTMENT OF TRANSPORTATION

Federal Highway Administration

Environmental Impact Statement: Dallas County, Texas

AGENCY: Federal Highway Administration (FHWA), DOT.

ACTION: Notice of intent.

SUMMARY: The FHWA is issuing this notice to advise the public that an environmental impact statement will be prepared for a proposed transportation project in Dallas County, Texas.

FOR FURTHER INFORMATION CONTACT: Mr. Salvador Deocampo, Acting District Engineer, Federal Highway Administration, 300 E. 8th Street, Room 826, Austin, Texas 78701, Telephone 512-916-5988.

SUPPLEMENTARY INFORMATION: The FHWA, in cooperation with the Texas Department of Transportation (TxDOT) and the North Texas Tollway Authority (NTTA), will prepare an environmental impact statement (EIS) for the Eastern Extension of the President George Bush Turnpike from SH 78 to IH 30 within northeast Dallas County. The corridor is approximately 10.5 miles in length and crosses Lake Ray Hubbard. From a regional and local perspective, there is a great demand for additional transportation capacity and access through the corridor. Over the last 30 years, the area has experienced tremendous growth and has nearly tripled in population.

As directed by TEA-21, the Major Investment Study (MIS) will be integrated with the EIS. Previous feasibility studies and Mobility 2025, the Metropolitan Transportation Plan (MTP) for the Dallas-Fort Worth region have examined a full range of alternatives and alignments within the corridor. The Eastern Extension is included in the MTP as a new location 4-lane tollway with controlled access. The environmental study will examine viable alternatives and potential transportation modes including the No-Build; Transportation Systems Management/Congestion Management Systems; controlled access freeway; and tollway options. it will also include extensive and continuous public involvement to address the long-term mobility needs of both the region and local community. The environmental study will include the determination of the number of lanes (four to six lanes are anticipated), roadway configuration, and operational characteristics. It will also include a discussion of the effects on the social, economic, and environment and of other known and reasonably foreseeable agency options proposed with the Eastern Extension Corridor.

Letters describing the proposed action and soliciting comments will be sent to appropriate Federal, State, and local agencies, and to private organizations and citizens who have previously expressed an interest or are known to have an interest in this proposal. A public scoping meeting is planned to be held in the Fall of 2000. The date will be announced locally at a later time. This will be the first in a series of meetings to solicit public comments on the proposed action during the National Environmental Policy Act (NEPA) process. In addition, a public hearing will be held. Public notice will be given of the time and place of the meetings and the hearing. The Draft EIS will be available for public and agency review and comment before the public hearing.

To ensure that the full range of issues related to this proposed action are addressed and all significant issues are identified, comments and suggestions are invited from all interested parties. Comments or questions concerning this proposed action and the EIS should be directed to the FHWA at the address provided above.

(Catalogue of Federal Domestic Assistance Program Number 20.205, Highway Planning and Construction. The regulations implementing Executive Order 12372 regarding intergovernmental consultation on Federal programs and activities apply to this program)
Salvador Deocampo,
Acting District Engineer, Austin, Texas.

[FR Doc. 00-19664 Filed 8-2-00; 8:45 am]

BILLING CODE 4910-22-M